ENVIRONMENTAL PROTECTION AGENCY

[FRL-7076-9]

Notice of Open Meeting, Environmental Financial Advisory Board Workshop on Environmental Management Systems, November 8, 2001

The Environmental Protection Agency's (EPA) Environmental Financial Advisory Board (EFAB) will hold an open meeting of its Cost-Effective Environmental Management Workgroup on November 8, 2001. The meeting will be held at EPA's Historic Great Hall at the Ariel Rios Building North, 3rd Floor, 12th Street & Pennsylvania Avenue, NW in Washington, DC. The meeting will begin at 9 in the morning and end at approximately 3 in the afternoon.

The purpose of the meeting is for the EFAB to collect information and ideas with respect to the linkage—both real and potential—between the implementation of Environmental Management Systems (EMS) and EMS certification and financial performance. Information from this meeting will help the Board develop a report with advice and recommendations to EPA.

The meeting will consist of a group of informed panelists from private industry, public utilities, municipalities, as well as the financial services industry, who will share their experience with EMS implementation and improved financial performance.

Please confirm your attendance because of increased security into the building and limited seating. Contact Vanessa Bowie, U.S. EPA, at 202 564-5186 or bowie.vanessa@epa.gov.

Dated: October 2, 2001.
Joseph Dillon,
Comptroller.

[FR Doc. 01-25409 Filed 10-9-01; 8:45 am]

BILLING CODE 6560-50-M